DEPARTMENT OF LABOR

Employment and Training Administration

[TA-W-51,458]

Silicon Graphics, Inc., Worldwide Manufacturing Organization Including Leased Workers of Kelly Services Chippewa Falls, WI; Notice of Affirmative Determination Regarding Application for Reconsideration

By letter of July 22, 2003, a petitioner requested administrative reconsideration of the Department of Labor's Notice of Negative Determination Regarding Eligibility to Apply for Worker Adjustment Assistance, applicable to workers of the subject firm. The Department's determination notice was signed on June 17, 2003. The notice was published in the Federal Register on July 3, 2003 (68 FR 39976).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC this 3rd day of November, 2003.
Elliott S. Kushner,
Certifying Officer, Division of Trade Adjustment Assistance.

[FR Doc. 03-29685 Filed 11-26-03; 8:45 am]

BILLING CODE 4510-30-P